INTERNATIONAL TRADE COMMISSION

[Investigation No. 337-TA-911]

Certain Lithium Silicate Materials and Products Containing the Same; Commission Determination Not To Review an Initial Determination Granting a Joint Motion To Terminate the Investigation Based on a Settlement Agreement; Termination of the Investigation

AGENCY: U.S. International Trade Commission.

ACTION: Notice.

SUMMARY: Notice is hereby given that the U.S. International Trade Commission has determined not to review an initial determination (“ID”) (Order No. 16) granting a joint motion to terminate the investigation based on a settlement agreement.

FOR FURTHER INFORMATION CONTACT: Lucy Grace D. Noyola, Office of the General Counsel, U.S. International Trade Commission, 500 E Street SW., Washington, DC 20436, telephone 202-205-3438. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on March 27, 2014, based on a complaint filed by Ivoclar Vivadent AG of Schaan, Liechtenstein; Ivoclar Vivadent, Inc. of Amherst, New York; and Ivoclar Vivadent Manufacturing Inc. of Somerset, New Jersey (collectively, “Ivoclar”). 79 FR 17180, 17180-81 (Mar. 27, 2014). The complaint alleges violations of Section 337 of the Tariff Act of 1930, as amended, 19 U.S.C. 1337, in the importation into the United States, the sale for importation, and the sale within the United States after importation of certain lithium silicate materials and products containing the same by reason of infringement of certain claims of U.S. Patent Nos. 8,047,021 and 8,444,756. Id. at 17180. The notice of investigation names as respondents Dentsply International Inc. of York, Pennsylvania; Dentsply Prosthetics U.S. LLC, a/k/a Dentsply Ceramco, of York, Pennsylvania; and DeguDent GmbH of Hanau-Wolfgang, Germany (collectively, “Respondents”). Id. at 17181. The Office of Unfair Import Investigations (OUII) also was named as a party to the investigation. Id.

On October 29, 2014, Ivoclar and Respondents filed a joint motion to terminate this investigation in its entirety on the basis of a settlement agreement. On November 6, 2014, the Commission Investigative Staff (“Staff”) filed a response supporting the motion.

On November 10, 2014, the presiding administrative law judge (“ALJ”) issued Order No. 16, granting the motion. The ALJ found that the joint motion complies with the Commission Rules. Specifically, the ALJ found that (1) the moving parties submitted their settlement agreement and a statement that they have no other agreements concerning the subject matter of this investigation and (2) the moving parties and Staff believe that granting the motion would not be contrary to the public interest. The ALJ also noted that termination of litigation under these circumstances as an alternative method of dispute resolution is generally in the public interest and will conserve public and private resources. No petitions for review were filed.

The Commission has determined not to review the subject ID.

The authority for the Commission's determination is contained in section 337 of the Tariff Act of 1930, as amended (19 U.S.C. 1337), and in Part 210 of the Commission's Rules of Practice and Procedure (19 CFR part 210).

Issued: December 9, 2014.
By order of the Commission.
Lisa R. Barton,
Secretary to the Commission.

[FR Doc. 2014-29230 Filed 12-12-14; 8:45 am]

BILLING CODE 7020-02-P